DEPARTMENT OF DEFENSE

Department of the Army; Corps of Engineers

Intent To Prepare a Draft Environmental Impact Statement for Construction of the Following Features of the Mississippi River and Tributaries—Morganza, LA to the Gulf of Mexico Project (MtoG): Houma Navigation Canal (HNC) Lock Complex and Associated Structures, in Terrebonne Parish in the Vicinity of Dulac, LA to Include Levee Reach G1, HNC Lock Access Road, HNC Closure Dam, HNC Lock and Floodgate Complex, Levee Reach F1, Bayou Grand Caillou Structure, and the Sand Sources for these Levee Reaches

AGENCY: Department of the Army, U.S. Army Corps of Engineers, DoD.

ACTION: Notice of intent.

SUMMARY: The U.S. Army Corps of Engineers, Mississippi Valley Division, New Orleans District, is initiating this study under the authority of the Energy and Water Development Appropriation Act for Fiscal Year 2002 (Pub. L. 107-66) to determine the environmental impacts of the Houma Navigation Canal (HNC) lock complex and associated structures. The reconnaissance study for the Mississippi River & Tributaries—Morganza, Louisiana to the Gulf of Mexico hurricane protection project (MtoG) was authorized by a resolution adopted April 30, 1992, by the Committee of Public Works and Transportation of the U.S. House of Representatives. The Water Resources Development Act (WRDA) of 1996 authorized the Corps to conduct an independent study of a lock to be located in the HNC. That study was completed in 1997. In 1998, Congress authorized the Corps to initiate detailed design of the multipurpose lock in the HNC. A Final Programmatic Environmental Impact Statement (FPEIS) entitled “Mississippi River & Tributaries—Morganza, Louisiana to the Gulf of Mexico Hurricane Protection” went to the public in March 2002. A Record of Decision has not been signed for this FPEIS. The MtoG entered the design phase following approval by the Mississippi River Commission and the execution of a design agreement in May 2002. The lock complex and associated structures on the HNC are part of the larger MtoG project.

FOR FURTHER INFORMATION CONTACT: Questions concerning the Draft Environmental Impact Statement (DEIS) should be addressed to Mr. Nathan Dayan at U.S. Army Corps of Engineers, PM-RS, P.O. Box 60267, New Orleans, LA 70160-0267, phone (504) 862-2030, fax number (504) 862-2572 or by e-mail at nathan.s.dayan@mvn02.usace.army.mil.

SUPPLEMENTARY INFORMATION: 1. Proposed Action. The proposed action would include (1) The construction of a gated lock and floodgate complex built in a bypass channel adjacent to the HNC, (2) the building of closure dam on the HNC, (3) the construction of MtoG hurricane protection levee reach G1, (4) the building of HNC lock access road, (5) the building of MtoG hurricane protection levee reach F1, (6) the construction of Bayou Grand Caillou structure, and (7) identification of the sand sources for construction activity.

The material dredged for the construction and maintenance of the channels would be used for wetlands restoration and construction, to the extent practicable. Economic and environmental analysis would be used to determine the most practical plan, which would provide for the greatest overall public benefit.

2. Alternatives. Alternatives recommended for consideration presently include the construction of the HNC lock complex and associated structures as described in the MtoG programmatic FEIS. Additionally, various levee alignments, as well as structure locations, depth, and sizes will be investigated.

3. Scoping. Scoping is the process for determining the scope of alternatives and significant issues to be addressed in the EIS. A letter will be sent to all parties believed to have an interest in the analysis. The letter will also notify interested parties of public scoping meetings that will be held in the local area and request their input on alternatives and issues to be evaluated. Notices will also be sent to local news media. All interested parties are invited to comment at this time, and anyone interested in this study should request to be included in the study mailing list.

A public scoping meeting will be held around September of 2005. The meeting will be held in the vicinity of Houma, LA. Additional meetings could be held, depending upon public interest and if it is determined that further public coordination is warranted.

4. Significant Issues. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will assist in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted regarding the effects of this proposed action on Essential Fish Habitat. The draft EIS (DEIS) or a notice of its availability will be distributed to all interested agencies, organizations, and individuals.

6. Estimated Date of Availability. Funding levels will dictate the date when the DEIS is available. The earliest that the DEIS is expected to be available is May of 2006.

Dated: August 16, 2005.
Richard P. Wagenaar,
Colonel, U.S. Army, District Engineer.

[FR Doc. 05-17496 Filed 9-1-05; 8:45 am]

BILLING CODE 3710-84-P